DEPARTMENT OF COMMERCE

International Trade Administration

[A-570-893]

Certain Frozen Warmwater Shrimp from the People's Republic of China: Rescission of the Second Administrative Review

AGENCY: Import Administration, International Trade Administration, Department of Commerce.

EFFECTIVE DATE: November 1, 2007.

FOR FURTHER INFORMATION CONTACT: Michael Quigley, AD/CVD Operations, Office 9, Import Administration, International Trade Administration, U.S. Department of Commerce, 14th Street and Constitution Avenue, N.W., Washington D.C. 20230; telephone: (202) 482-4047.

Background

On April 6, 2007, the Department of Commerce (“the Department”) published in the Federal Register a notice of initiation listing 105 firms for which it received timely requests for an administrative review of this antidumping duty order. See Notice of Initiation of Administrative Reviews of the Antidumping Duty Orders on Certain Frozen Warmwater Shrimp from the Socialist Republic of Vietnam and the People's Republic of China, 72 FR 17095 (April 6, 2007). The period of review (POR) is February 1, 2006, through January 31, 2007.

On July 5, 2007, the Louisiana Shrimp Association (“LSA”) withdrew its request for review of 95 companies. On August 22, 2007, the Department rescinded the review with respect to these companies in accordance with 19 CFR 351.213(d)(1). See Certain Frozen Warmwater Shrimp from the People's Republic of China: Partial Rescission of the 2006/2007 Antidumping Duty Administrative Review, 72 FR 46955 (August 22, 2007). Accordingly, the following companies remain subject to this administrative review: Allied Pacific (H.K.) Co. Ltd. (“Allied H.K.”), Allied Pacific Aquatic Products (Zhanjiang) Co., Ltd. (“Allied Zhanjiang”), Allied Pacific Food (Dalian) Co., Ltd. (“Allied Dalian”), Asian Seafoods (Zhanjiang) Co., Ltd. (“Asian Seafoods”), Guolian Aquatic Products (“Guolian Aquatic”), Hai Li Aquatic Co., Ltd. Zhao An, Fujian (also known as Haili Aquatic Co., Ltd. Zhaoan Fujian) (“Hai Li”), King Royal Investment Ltd. (“King Royal”), Yelin Enterprise Co, Ltd. Hong Kong (“Yelin”), Zhanjiang Allied Pacific Aquaculture Co., Ltd. (“Zhanjiang Aquaculture”), and Zhanjiang Evergreen Aquatic Product Science and Technology Co., Ltd. (“Zhanjiang Evergreen”).

Rescission of Review

On April 20, 2007, the Department received a certification of no shipments and request to rescind the review with respect to Yelin, from its successor-in-interest, Hilltop International. On April 23, 2007, the Department received certifications of no shipments and requests to rescind the review with respect to Hai Li and Asian Seafoods. Also on April 23, 2007, the Department received a certification of no shipments and request to rescind the review from the director of Allied H.K., on behalf of Allied H.K., Allied Zhanjiang, Allied Dalian, King Royal, and Zhanjiang Aquaculture (collectively, “Allied Group”). For each company that reported no shipments, the Department conducted an internal U.S. Customs and Border Protection (“CBP”) data query, which demonstrated that the company had no entries. Therefore, pursuant to 19 C.F.R. 351.213(d)(3), the Department is rescinding its administrative review with respect to Yelin, Hai Li, Asian Seafoods and the Allied Group, since there were no POR entries of subject merchandise to review.

With respect to the administrative review of Guolian Aquatic, which was requested by the LSA, the LSA stated in its April 27, 2007, submission to the Department that this company is the same company as Zhanjiang Guolian Aquatic Products Co., Ltd. (“Zhanjiang Guolian”). Moreover, in its April 23, 2007, submission to the Department, Zhanjiang Guolian stated that Guolian Aquatic is the same company as Zhanjiang Guolian. Zhanjiang Guolian is excluded from the antidumping duty order on shrimp from the People's Republic of China (“PRC”). See Notice of Amended Final Determination of Sales at Less Than Fair Value and Antidumping Duty Order: Certain Frozen Warmwater Shrimp From the People's Republic of China, 70 FR 5149 (February 1, 2005). Thus, as no interested party contests that Guolian Aquatic and Zhanjiang Guolian are the same entity, and Zhanjiang Guolian is excluded from the antidumping duty order, we are rescinding the administrative review of Guolian Aquatic.

With respect to Zhanjiang Evergreen, information contained in its August 17, 2007, submission to the Department demonstrates that it did not make any entries of subject merchandise into the United States during the POR. We note that: “{i}t is the Department's consistent, long-standing practice, supported by substantial precedent, to require that there be entries during the POR upon which to assess antidumping duties, irrespective of the export-price or constructed export-price designation of the U.S. sales.” See Certain Corrosion-Resistant Carbon Steel Flat Products from France: Notice of Rescission of Antidumping Duty Administrative Review, 71 FR 16553 (April 3, 2006). The Department conducted an internal CBP data query, which demonstrated that Zhanjiang Evergreen had no entries. Therefore, as Zhanjiang Evergreen reported that it did not have entries during the POR, in accordance with 19 C.F.R. 351.213(d)(3), the Department is rescinding its review of Zhanjiang Evergreen. As no other companies remain subject to the administrative review of certain frozen warmwater shrimp from the PRC for this POR, the review is rescinded in its entirety.

Assessment Rates

The Department will instruct CBP to assess antidumping duties on all appropriate entries. For those companies for which this review has been rescinded, antidumping duties shall be assessed at rates equal to the cash deposit of estimated antidumping duties required at the time of entry, or withdrawal from warehouse, for consumption, in accordance with 19 CFR 351.212(c)(1)(I). The Department will issue appropriate assessment instructions directly to CBP after 15 days of publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(I)(1) of the Tariff Act of 1930, as amended, and 19 CFR 351.213(d)(4).

Dated: October 26, 2007.
Stephen J. Claeys,
Deputy Assistant Secretary for Import Administration.

[FR Doc. E7-21531 Filed 10-31-07; 8:45 am]

BILLING CODE 3510-DS-S